DEPARTMENT OF ENERGY

Federal Energy Regulatory Commission

[Docket No. RP00-572-000]

Cove Point LNG Limited Partnership; Notice of Tariff Filing

September 29, 2000.

Take notice that on September 26, 2000, Cove Point LNG Limited Partnership (Cove Point) tendered for filing as part of its FERC Gas Tariff, Second Revised Volume 1, First Revised Sheet No. 111. The proposed effective date for the revised tariff sheet is November 1, 2000.

Cove Point states that the purpose of the instant filing is to comply with the Commission's Regulation of Short-Term Natural Gas Transportation Services and Regulation of Interstate Natural Gas Transportation Services in Docket Nos. RM98-10-000 and RM98-12-000, et al. (collectively, Order 637). Among other things, the Commission in Order 637 revised its regulations regarding the availability of the Right-of-First Refusal (ROFR). Specifically, 18 CFR 284.221(d)(2)(ii) provides that the ROFR will be applicable to contracts at the maximum applicable rate with either (1) a term of service of at least twelve consecutive months or (2) for a service which is not available for 12 consecutive months, a contract term of more than one year. A Buyer is eligible for a right of first refusal if the Buyer is receiving firm service at less than the maximum applicable rate pursuant to a service agreement that meets the foregoing term criteria and was executed prior to March 26, 2000; however, the right of first refusal will not apply to any re-executed service agreement not at the maximum applicable rate.

Cove Point states that copies of the instant filing are being mailed to customers, State Commissions, and other interested parties.

Any person desiring to be heard or to protest said filing should file a motion to intervene or a protest with the Federal Energy Regulatory Commission, 888 First Street, NE., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25509 Filed 10-4-00; 8:45 am]

BILLING CODE 6717-01-M